NATIONAL SCIENCE FOUNDATION

Notice of Intent To Seek Approval To Establish an Information Collection System

AGENCY: National Science Foundation.

ACTION: Notice and request for comments.

SUMMARY: Under the Paperwork Reduction Act of 1995, and as part of its continuing effort to reduce paperwork and respondent burden, the National Science Foundation (NSF) is inviting the general public or other Federal agencies to comment on this proposed continuing information collection.

DATES: Written comments on this notice must be received by April 4, 2022, to be assured consideration. Comments received after that date will be considered to the extent practicable. Send comments to address below.

FOR FURTHER INFORMATION CONTACT: Suzanne H. Plimpton, Reports Clearance Officer, National Science Foundation, 2415 Eisenhower Avenue, Suite W18200, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including federal holidays).

Comments: Comments are invited on: (a) Whether the proposed collection of information is necessary for the proper performance of the functions of the Foundation, including whether the information will have practical utility; (b) the accuracy of the Foundation's estimate of the burden of the proposed collection of information; (c) ways to enhance the quality, utility, and clarity of the information to be collected; and (d) ways to minimize the burden of the collection of information on those who are to respond, including through the use of automated collection techniques or other forms of information technology.

SUPPLEMENTARY INFORMATION: Title of Collection: Program Monitoring Data Collections for National Science Foundation (NSF) Small Business Innovation Research (SBIR)/Small Business Technology Transfer (STTR) Programs.

OMB Number: 3145-NEW.

Expiration Date of Approval: Not applicable.

Type of Request: Intent to seek approval to establish an information collection for post-award output and outcome monitoring system.

Abstract: The NSF SBIR/STTR programs focus on transforming scientific discovery into products and services with commercial potential and/or societal benefit. Unlike fundamental or basic research activities that focus on scientific and engineering discovery itself, the NSF SBIR/STTR programs support the creation of opportunities to move fundamental science and engineering out of the lab and into the market at scale, through startups and small businesses representing deep technology ventures. Here, deep technologies refer to technologies based on discoveries in fundamental science and engineering. The NSF SBIR/STTR programs are designed to provide non-dilutive funding (financing that does not involve equity, debt, or other elements of the business ownership structure) at the earliest stages of technology research and development.

The NSF SBIR/STTR programs are Congressionally mandated. By investing federal research and development funds into startups and small businesses, NSF hopes to stimulate the creation of novel products, services, and solutions in the private sector, strengthen the role of small business in meeting federal research and development needs, increase the commercial application of federally supported research results, build a strong national economy, and increase and develop the U.S. workforce, especially by fostering and encouraging participation of socially and economically disadvantaged and women-owned small businesses.

Both the NSF SBIR and NSF STTR programs have two phases: Phase I and Phase II. Phase I is a 6-12 month experimental or theoretical investigation that allows the awardees to determine the scientific, technical, and commercial merit of the idea or concept. Phase II further develops the proposed concept, building on the feasibility of the project undertaken in Phase I, with a goal of working toward the commercial launch of the new product, process, or service being developed.

The NSF SBIR/STTR programs request the Office of Management and Budget (OMB) approval of this clearance that will allow the programs to improve the rigor of our surveys for evaluations and program monitoring, as well as to initiate new data collections to monitor the immediate, intermediate, and long-term outcomes of our investments by periodically surveying the startup businesses and their founders/co-founders involved in the businesses. The clearance will allow the SBIR/STTR programs to rigorously develop, test, and implement survey instruments and methodologies.

The primary objective of this clearance is to allow the NSF SBIR/STTR programs to collect characteristics, output, and outcome information from the startup companies funded by the programs. This collection will enable the evaluation of the impacts of our investments in technology translation and innovation over time. The second, related objective is to improve our questionnaires and/or data collection procedures through pilot tests and other survey methods used in these activities. Under this clearance a variety of surveys could be pre-tested, modified, and used.

Following standard OMB requirements, NSF will submit to OMB an individual request for each survey project we undertake under this clearance. NSF will request OMB approval in advance and provide OMB with a copy of the questionnaire and materials describing the project.

Data collected will be used for planning, management, evaluation, and audit purposes. Summaries of output and outcome monitoring data are used to respond to queries from Congress, the Small Business Administration (SBA), the public, NSF's external merit reviewers who serve as advisors, including Committees of Visitors (COVs), NSF's Office of the Inspector General, and other pertinent stakeholders. These data are needed for effective administration, program monitoring, evaluation, outreach/marketing roadmaps, and for strategic reviews and measuring attainment of NSF's program and strategic goals, as identified by the President's Accountable Government Initiative, the Government Performance and Results Act Modernization Act of 2010, Evidence-Based Policymaking Act of 2018, and NSF's Strategic Plan.

All questions asked in the data collection are questions that are NOT included in the annual, final or outcomes reports, and the intention is to ask the grantees even beyond the period of performance on voluntary basis in order to capture impacts of the research that occur during and beyond the life of the award.

Grantees will be invited to submit information on a periodic basis to support the management of the NSF SBIR/STTR investment portfolio. Once the survey tool for a specific program is tested, grantees will be invited to submit these indicators to NSF via data collection methods that include, but are not limited to, online surveys, interviews, focus groups, phone interviews, etc. These indicators are both quantitative and descriptive and may include, for example, the characteristics of project personnel, sources of funding and support, knowledge transfer and technology translation activities, patents, licenses, publications, descriptions of significant advances, and other outcomes of the funded efforts.

Use of the Information

The data collected will be used for NSF internal and external reports, historical data, program level studies and evaluations, and for securing future funding for the maintenance and growth of the NSF SBIR/STTR programs. Evaluation designs could make use of metadata associated with the award and other characteristics to identify a comparison group to evaluate the impact of the program funding and other interesting research questions.

Estimate of Public Burden
Collection title | Number of respondents | Annual number of responses/ respondent | Annual hour burden
Program Monitoring Data Collections for National Science Foundation (NSF) Small Business Innovation Research, (SBIR)/Small Business Technology Transfer (STTR) Programs | 400 startup businesses per year | 3 | 600

For life-of-award monitoring, the data collection burden to awardees will be limited to no more than 30 minutes of the respondents' time in each instance.

Respondents

The respondents are either Principal Investigators (PIs) of the startup businesses that the NSF SBIR/STTR Programs awarded, founders, co-founders, and/or key personnel of the startup businesses. In the case of Business Survey, only one response from each startup/small business is anticipated.

Estimates of Annualized Cost to Respondents for the Hour Burdens

The overall annualized cost to the respondents is estimated to be $26,400. The following table shows the annualized estimate of costs to PI/Founders/Business Partners respondents, who are generally university assistant professors. This estimated hourly rate is based on a report from the American Association of University Professors, “Annual Report on the Economic Status of the Profession, 2020-21,” Academe, March-April 2021, Survey Report Table 1. According to this report, the average salary of an assistant professor across all types of doctoral-granting institutions (public, private-independent, religiously affiliated) was $91,408. When divided by the number of standard annual work hours (2,080), this calculates to approximately $44 per hour.

Respondent type | Number of respondents | Burden hours per respondent | Average hourly rate | Estimated annual cost
PIs/Founders, Business Partners | 400 | 1.5 | $44 | $26,400
Total | 400 |  |  | 26,400

Estimated Number of Responses per Report

Data collection for the collections involves all awardees in the programs involved.

Dated: January 27, 2022.
Suzanne H. Plimpton,
Reports Clearance Officer, National Science Foundation.

[FR Doc. 2022-02029 Filed 1-31-22; 8:45 am]

BILLING CODE 7555-01-P